FEDERAL ELECTION COMMISSION

Sunshine Act Meeting

AGENCY: Federal Election Commission.

Date AND Time: Tuesday, July 23, 2013 at 10:00 a.m.

Place: 999 E Street NW., Washington, DC.

Status: This Meeting Will Be Closed to the Public.

Items To Be Discussed: Compliance matters pursuant to 2 U.S.C. 437g.

Audits conducted pursuant to 2 U.S.C. 437g, § 438(b), and Title 26, U.S.C.

Matters concerning participation in civil actions or proceedings or arbitration.

Matters that relate solely to the Commission's internal personnel decisions, or internal rules and practices.

Information the premature disclosure of which would be likely to have a considerable adverse effect on the implementation of a proposed Commission action.

* * * * *

Person To Contact For Information: Judith Ingram, Press Officer, Telephone: (202) 694-1220.

Signed:
Shawn Woodhead Werth,
Secretary and Clerk of the Commission.

[FR Doc. 2013-17417 Filed 7-17-13; 11:15 am]

BILLING CODE 6715-01-P